DEPARTMENT OF STATE

[Public Notice 8387]

Announcement of the 2013 Innovation in Arms Control Challenge Under the America Competes Reauthorization Act of 2011

SUMMARY: The Department of State's Bureau of Arms Control, Verification and Compliance (AVC) announces the following challenge: What Information Technology Tools and Concepts Can Support Future Arms Control Inspections? The 2013 Innovation in Arms Control Challenge will engage the public to develop tools and processes for 21st century arms control inspections.

DATES: The submission period for entries begins 3 p.m. EDT, July 22, 2013, and ends 5 p.m. EDT, October 20, 2013. Winners will be announced no later than February 28, 2014, unless the term of the Contest is extended by the Department of State.

FOR FURTHER INFORMATION CONTACT: Anne Choi, U.S. Department of State, Bureau of Arms Control, Verification and Compliance, 2201 C Street NW., Washington, DC 20520; Telephone 202-647-6405; Email choiac@state.gov.

SUPPLEMENTARY INFORMATION: This Federal Register notice is required under the Section 105 of the America COMPETES Reauthorization Act of 2011.

Competition Details

1. Subject of the Challenge: This challenge seeks to develop innovative arms control inspection tools and processes that capture the potential of an era characterized by mobile devices and open information sharing.

2. Prize: The award(s) will be paid to the best submission(s) as solely determined by the Department of State. Only one solution that meets all requirements and criteria and is most likely to be successfully and cost-effectively implemented will be awarded the full prize. If no solution meets this threshold, either no award will be given or partial awards will be given to those that meet some of the requirements and criteria. The total prize amount for this challenge will not exceed $10,000.

3. Challenge Rules:

a. Eligibility to participate: To be eligible to win a prize, in accordance with the America COMPETES Act, an individual or entity shall have registered to participate in the competition, comply with all requirements and rules related to this competition, and in the case of a private entity, shall be incorporated in and maintaining a primary place of business in the United States, and in the case of an individual (participating singly or in a team) shall be a citizen or permanent resident of the United States. In addition, an individual or entity may not be a Federal entity or a Federal employee acting within the scope of their employment. An individual or entity shall not be deemed ineligible because the individual or entity used Federal facilities or consulted with Federal employees during the competition if the facilities and employees are made available to all individuals and entities participating in the competition on an equitable basis. While submissions from ineligible Solvers are welcome and may be the subject of further interest, these will not be eligible to receive awards. If you have a question about eligibility, please refer to the following Web site: https://www.innocentive.com/ar/challenge/9933381.

b. Intellectual Property: Award(s) recipient(s) must grant the Department of State non-exclusive license to their submission.

c. Liability: Registered participants must agree to assume any and all risks and waive claims against the Federal Government and its related entities, except in the case of willful misconduct, for any injury, death, damage, or loss of property, revenue, or profits, whether direct, indirect, or consequential, arising from participation in the competition, whether the injury death, damage, or loss arises through negligence or otherwise.

After the Challenge deadline, the Department of State will complete the review process and make a decision with regards to the Winning Solution(s) as described below. All Solvers that submitted a proposal will be notified on the status of their submissions.

4. Process for participants to register: All Contest participants must enter the Challenge through the Challenge Web page on https://www.innocentive.com/ar/challenge/9933381 by 5 p.m. EDT on October 20, 2013. Submissions will be accepted starting at 3 p.m. EDT on July 22, 2013. Contest participants should review all contest rules and eligibility requirements.

5. Basis on which the winners will be selected:

Winners will be selected based upon provision of the following:

1. Description of the problem the tool/concept will address.

2. Description of proposed technology tool or concept.

3. Description of the concept's feasibility, achievability and completeness.

4. Description of the hardware and/or software requirements for execution of the tool or concept, including maintenance requirements.

5. Description of prior hardware and/or software application of the tool, if applicable.

6. Concept design or supporting documentation of tool.

7. Any further uses and applications of the proposed solution to broaden potential adoption of the technology beyond arms control.

Dated: July 16, 2013.
Rose E. Gottemoeller,
Acting Under Secretary of State, Arms Control and International Security, Department of State.

[FR Doc. 2013-17526 Filed 7-19-13; 8:45 am]

BILLING CODE 4710-02-P